DEPARTMENT OF AGRICULTURE

Forest Service

Information Collection; Request for Comment; Forest Industries Data Collection System

AGENCY: Forest Service, USDA.

ACTION: Notice.

SUMMARY: In accordance with the Paperwork Reduction Act of 1995, the Forest Service is seeking comments from all interested individuals and organizations on the revision of a currently approved information collection, Forest Industries Data Collection System.

DATES: Comments must be received in writing on or before July 11, 2006 to be assured of consideration. Comments received after that date will be considered to the extent practicable.

ADDRESSES: Comments concerning this notice should be addressed to the USDA Forest Service, Attn: Michael Howell, Forest Inventory and Analysis, Southern Research Station, 4700 Old Kingston Pike, Knoxville, TN 37919-5206.

Comments also may be submitted via facsimile to (865) 862-2048 or by e-mail to: mhowell@fs.fed.us.

The public may inspect comments received at 4700 Old Kingston Pike, Resource Use Office, Knoxville, Tennessee during normal business hours. Visitors are encouraged to call ahead to (865) 862-2000 to facilitate entry to the building.

FOR FURTHER INFORMATION CONTACT: Michael Howell, Southern Research Station, at (865) 862-2054. Individuals who use telecommunication devices for the deaf (TDD) may call the Federal Relay Service (FRS) at 1-800-877-8339, twenty-four hours a day, every day of the year, including holidays.

SUPPLEMENTARY INFORMATION: Title: Forest Industries Data Collection.

OMB Number: 0596-0010.

Expiration Date of Approval: October 31, 2006.

Type of Request: Extension with Revision.

Abstract: The Forest and Range Renewable Resources Planning Act of 1974 and the Forest and Rangeland Renewable Resources Research Act of 1978 require the Forest Service to evaluate trends in the use of logs and wood chips, to forecast anticipated levels of logs and wood chips, and to analyze changes in the harvest of these resources from National Forest System lands. To collect this information, Forest Service personnel use two questionnaires, which respondents return in self-addressed, postage-paid envelopes.

Pulpwood Received Questionnaire: Forest Service personnel use this questionnaire to collect and evaluate information from pulp mills in order to monitor the volume, types, species, sources, and prices of timber products harvested throughout the Nation. The data collected will be used to provide essential information about the current use of the Nation's timber resources for pulpwood industrial products and is not available from other sources.

Logs and Other Roundwood Received: This questionnaire is used by Forest Service personnel to collect and evaluate information from primary wood-using mills, including small, part-time mills, as well as large corporate entities. Primary wood-using mills are facilities that use harvested wood in log or chip form, such as sawlogs, veneer logs, pulpwood, and pulp chips, to manufacture a secondary product, such as lumber or paper. Forest Service personnel evaluate the information collected and use it to monitor the volume, types, species, sources, and prices of timber products harvested throughout the Nation.

Item | Pulpwood received questionnaire | Logs and other roundwood received questionnaire
Estimate of Annual Burden | 0.5 hours | 0.84 hours.
Type of Respondents | Primary users of industrial pulpwood | Primary users of industrial roundwood products.
Estimated Annual Number of Respondents | 188 | 1628.
Estimated Number of Responses per Respondent | 1 | 1.
Estimated Total Annual Burden on Respondents | 94 | 1368.

This information is to be collected by Forest Service personnel at the following Forest Service research stations: Northeast Research Station (Radnor, Pa), North Central Research Station (St. Paul, MN), Southern Research Station (Asheville, NC), Rocky Mountain Research Station (Ogden, UT), and Pacific Northwest Research Station (Portland, OR).

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Ann M. Bartuska,
Deputy Chief for Research & Development.

[FR Doc. E6-7278 Filed 5-11-06; 8:45 am]

BILLING CODE 3410-11-P